ENVIRONMENTAL PROTECTION AGENCY

[EPA-HQ-OPPT-2014-0381; FRL-9910-70]

Certain New Chemicals; Receipt and Status Information

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from April 18, 2013 to May 22, 2013.

DATES: Comments identified by the specific PMN number or TME number, must be received on or before July 9, 2014.

ADDRESSES: Submit your comments, identified by docket identification (ID) number EPA-HQ-OPPT-2014-0381, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Bernice Mudd, Information Management Division (7407M), Office of Pollution Prevention and Toxics, Environmental Protection Agency, 1200 Pennsylvania Ave. NW., Washington, DC 20460-0001; telephone number: (202) 564-8951; email address: mudd.bernice@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitter of the PMNs addressed in this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the Agency taking?

This document provides receipt and status reports, which cover the period from April 18, 2013 to May 22, 2013, and consists of the PMNs and TMEs both pending and/or expired, and the NOCs to manufacture a new chemical that the Agency has received under TSCA section 5 during this time period.

III. What is the Agency's authority for taking this action?

Section 5 of TSCA requires that EPA periodical publish in the Federal Register receipt and status reports, which cover the following EPA activities required by provisions of TSCA section 5.

EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm. Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic status reports on the new chemicals under review and the receipt of NOCs to manufacture those chemicals.

IV. Receipt and Status Reports

In Table I. of this unit, EPA provides the following information (to the extent that such information is not claimed as CBI) on the PMNs received by EPA during this period: The EPA case number assigned to the PMN, the date the PMN was received by EPA, the projected end date for EPA's review of the PMN, the submitting manufacturer/importer, the potential uses identified by the manufacturer/importer in the PMN, and the chemical identity.

Table I— 71 PMNs Received From 4/18/13 to 5/22/13
Case No. | Received date | Projected notice end date | Manufacturer/ importer | Use | Chemical
P-13-0396 | 04/19/2013 | 07/18/2013 | CBI | (S) Crosslinker In Matte Powder Coatings | (G) Hydroxyalkylamide.
P-13-0397 | 04/22/2013 | 07/21/2013 | CBI | (G) Surfactant For Floor Polish And Coatings | (G) Alkylpolycarboxylic Acid, Derivative, Tris(Substitutedalkoxy) Alkyl Ester, Salt.
P-13-0398 | 04/22/2013 | 07/21/2013 | CBI | (G) Cleaning Solvent | (G) Alkenyl Amide.
P-13-0399 | 04/23/2013 | 07/22/2013 | CBI | (G) Tackifier In Manufacture Of Adhesives | (G) Rosin, Polymer With Glycerol, Pentaerythritol, Dicarboxylic Acid And Ethylene Oxide Polymer.
P-13-0400 | 04/23/2013 | 07/22/2013 | CBI | (G) Tackifier In Manufacture Of Adhesives | (G) Rosin, Polymer With Glycerol, Dicarboxylic Acid And Ethylene Oxide Polymer.
P-13-0401 | 04/23/2013 | 07/22/2013 | CBI | (G) Tackifier In Manufacture Of Adhesives | (G) Rosin, Polymer With Pentaerythritol, Dicarboxylic Acid And Ethylene Oxide Polymer.
P-13-0402 | 04/23/2013 | 07/22/2013 | CBI | (G) Tackifier In Manufacture Of Adhesives | (G) Rosin, Polymer With Glycerol, Pentaerythritol, Carboxylic Acid And Ethylene Oxide Polymer.
P-13-0403 | 04/23/2013 | 07/22/2013 | CBI | (G) Tackifier In Manufacture Of Adhesives | (G) Rosin, Polymer With Glycerol, Carboxylic Acid And Ethylene Oxide Polymer.
P-13-0404 | 04/23/2013 | 07/22/2013 | CBI | (G) Tackifier In Manufacture Of Adhesives | (G) Rosin, Polymer With Pentaerythritol, Carboxylic Acid And Ethylene Oxide Polymer.
P-13-0405 | 04/23/2013 | 07/22/2013 | CBI | (S) Themoplastic Polyurethane For Contains/Mouldings | (S) Carbonic Acid, Dimethyl Ester, Polymer With 1,4-Diisocyanatobenzene, 1,6-Hexanediol And 2,2′-[1,4-Phenylenebis(Oxy)]Bis] Ethanol].*
P-13-0406 | 04/24/2013 | 07/23/2013 | Mane, USA | (S) Fragrance Ingredient; Fragrance Ingredient; Fragrance Material | (G) Ambramone.
P-13-0407 | 04/24/2013 | 07/23/2013 | CBI | (S) Fluorescent Brightener For Use In Cellulosic Paper Applications | (G) Triazinylaminostilbene.
P-13-0408 | 04/24/2013 | 07/23/2013 | CBI | (G) Specialty Additive | (G) Salt Of A Substituted Alkanoic Acid.
P-13-0409 | 04/25/2013 | 07/24/2013 | CBI | (S) Lubricating Surfactant | (G) Ammonium Soap.
P-13-0410 | 04/25/2013 | 07/24/2013 | CBI | (G) Formulating Compound For Introducing A Performance Stabilizer | (G) Sodium Disubstituted Alaninamide Sulfonate.
P-13-0411 | 04/26/2013 | 07/25/2013 | International Specialty Products | (S) Kinetic Hydrate Inhibitor | (S) 1-Propanesulfonic Acid, 2-Methyl-2-[(1-Oxo-2-Propen-1-Yl)Amino]-, Sodium Salt (1:1), Polymer With 1-Ethenylhexahydro-2h-Azepin-2-One And 1-Ethenyl-2-Pyrrolidinone.*
P-13-0412 | 04/26/2013 | 07/25/2013 | CBI | (G) Metalworking Fluid Additive | (G) Poly(Oxy-1,2-Ethanediyl), Alpha,Alpha′,Alpha″-1,2,3-Propanetriyltris[Omega-Hydroxy-, Hydroxyalkyl Ether.
P-13-0413 | 04/26/2013 | 07/25/2013 | CBI | (S) Polymeric Binder For Coatings For Floors | (G) Polyester Polyurethane.
P-13-0414 | 04/26/2013 | 07/25/2013 | CBI | (G) Polymeric Membrane | (G) Aromatic Acid, Polymer With Amine.
P-13-0416 | 04/26/2013 | 07/25/2013 | CBI | (G) Coating For Plastics | (G) Linearic Aliphatic Polycarbonate Polyester, Neutralized.
P-13-0417 | 04/26/2013 | 07/25/2013 | CBI | (G) Coating For Plastics | (G) Linearic Aliphatic Polycarbonate Polyester.
P-13-0415 | 04/29/2013 | 07/28/2013 | Henkel Corporation | (S) Component In Cyanoacrylate And Epxy Adhesiv Formulation | (S) Pyridine, 2,2′Dithiobis.*
P-13-0418 | 04/30/2013 | 07/29/2013 | CBI | (G) Polymer Modifier | (G) Alkanediol, Polymer With Polyethylene Glycol And Alkylene Bis (Substituted Carbomonocycle).
P-13-0419 | 04/30/2013 | 07/29/2013 | Colonial Chemical, Inc | (S) Glass Cleaners; Hard Surface Cleaner | (G) Dialkyl Phosphate Ester.
P-13-0420 | 04/30/2013 | 07/29/2013 | CBI | (G) Dispersant For Ink Formulations | (G) 2-Propenoic Acid, Homopolymer, Reaction Products With Arylamine And Polyethylene-Polypropylene Glycol Aminoalkanol Ether, Compounds With Aminoalkanol.
P-13-0421 | 04/30/2013 | 07/29/2013 | International Flavors & Fragrances Inc | (S) Fragrance Ingredient For Use In Fragrances For Soaps, Detergent, Cleaners And Other Household Products | (S) 4,7-Methano-1h-Indene-5-Acetaldehyde, Octahyro-*, (S) 4,7-Methano-1h-Indene-5-Carboxaldehyde, Octahyro-*-6-Methyl-.*
P-13-0422 | 04/30/2013 | 07/29/2013 | CBI | (G) Industrial Feedstock Chemical. See Attachment 004 For More Detailed Use Information | (G) Algal Biomass From A Fermentation.
P-13-0423 | 05/01/2013 | 07/30/2013 | Colonial Chemical, Inc | (S) Intermediate For Surfactant Production | (S) Quaternary Ammonium Compounds, C14-18-Alkyl(3-Chloro-2-Hydroxypropyl)Dimet hyl, Chlorides.*
P-13-0424 | 05/01/2013 | 07/30/2013 | 3M Company | (S) Heat Transfer fluid; Electronics Testing | (G) Hydrofluoroether.
P-13-0425 | 05/02/2013 | 07/31/2013 | CBI | (G) Raw Material For Industry | (G) Hydroxy Phenyl Fatty Acids.
P-13-0426 | 05/02/2013 | 07/31/2013 | CBI | (G) Raw Material For Industry | (G) Hydroxy Phenyl Fatty Acids.
P-13-0427 | 05/02/2013 | 07/31/2013 | CBI | (G) Raw Material For Industry | (G) Hydroxy Phenyl Fatty Acids.
P-13-0428 | 05/02/2013 | 07/31/2013 | RR Consulting Services, Inc | (G) 1. Oil And Gas Production; 2. Industrial Water Treatment | (G) Aminophosphonate Salt.
P-13-0429 | 05/03/2013 | 08/01/2013 | Scott Bader, Inc | (G) This Polymer Is Intended To Be Used As A Thickener For Carpet Backing Applications/ | (G) Acrylic Copolymer Emulsion.
P-13-0430 | 05/06/2013 | 08/04/2013 | CBI | (S) Intermediate Feedstock For Lubricant Base Oil Production. Industrial Use In Transport To Other Base Oil Manufacturing Facilities Controlled By Amyris | (G) Petroleum Substitute Base.
P-13-0431 | 05/06/2013 | 08/04/2013 | CBI | (G) Laundry Detergent And Manual Dishwashing Liquid Additive | (G) 2-Propenoic Acid, 2-Methyl-, Polymers With Alkyl Acrylates And Polyethylene Glycol Methacrylate Alkyl Ethers.
P-13-0432 | 05/06/2013 | 08/04/2013 | CBI | (G) Laundry Detergent And Manual Dishwashing Liquid Additive | (G) 2-Propenoic Acid, 2-Methyl-, Polymers With Alkyl Acrylates And Polyethylene Glycol Methacrylate Alkyl Ethers.
P-13-0433 | 05/06/2013 | 08/04/2013 | CBI | (G) Crude Oil Additive | (G) Alpha-Olefins, Polymers With Maleic Anhydride, Alkyl Esters.
P-13-0434 | 05/07/2013 | 08/05/2013 | Dorf Ketal Chemicals LLC | (G) Catalyst For Esterification | (G) Hydroxyacid Titanium Chelate Salt.
P-13-0435 | 05/07/2013 | 08/05/2013 | Firmenich Incorporated | (S) Fragrance Material | (S) Olive Leaf Oils.*
P-13-0436 | 05/07/2013 | 08/05/2013 | The John D. Walsh Company, Inc | (S) Fragrance Ingredient For Laundry Applications; Fragrance Ingredient For Household Applications; Fragrance Ingredient For Personal Care | (G) Cyclohexaneacetic Carboxylic Acid Ester.
P-13-0437 | 05/07/2013 | 08/05/2013 | Henkel Corporation | (S) Isolated Site Limited Intermediate | (S) 2-Propenoic Acid, Butyl Ester, Polymer With Ethyl 2-Propenoate And 2-Methoxyethyl 2-Propenoate.*
P-13-0438 | 05/08/2013 | 08/06/2013 | DIC International (USA) LLC | (G) Additive For Coatings | (G) Fluorinated Copolymer.
P-13-0439 | 05/08/2013 | 08/06/2013 | CBI | (S) Ultraviolet Light Stabilizer For Plastics | (G) Fatty Acid Piperidinyl Esters.
P-13-0440 | 05/08/2013 | 08/06/2013 | Interplastic Corporation | (S) Thermoset Polymer For Floor Coating; Floor Coating, Coatings And Grouts; Composite Manufacturing | (S) 2-Butenedioic Acid, 1-[2,2-Bis[(2-Propen-1-Yloxy)Methyl]Butyl] Ester, Ester With 3,3′-[(1-MethylethylideBis(4,1-Phenyleneoxy)]Bis[1,2-Propanediol] 2-Methyl-2-Propenoate,* (S) Phenol, Polymer With Formaldehyde, Glycidyl Ether, 2,2-Bis[(2-Propen-1-Yloxy)Methyl]Butyl 2-Butenedioate Methacrylate.*
P-13-0441 | 05/08/2013 | 08/06/2013 | H.B. Fuller Company | (G) Industrial Adhesive | (G) 1,3-Benzenedicarboxylic Acid, Polymer With Butyl 2-Methyl-2-Propenoate, Hexandioic Acid, 1,6-Hexanediol, Substituted Poly[Oxy(Methyl-1,2-Ethanediyl)], 2-Hdyroxyethyl 2-Methyl-2-Propenoate, 1,1′-Methylenebis[4-Isocyanatobenzene], Methyl 2-Methyl-2-Propenoate, 2-Methyl-2-Propenoic Acid And 2-Oxepanone.
P-13-0442 | 05/08/2013 | 08/06/2013 | H.B. Fuller Company | (G) Industrial Adhesive | (G) Hexanedioic Acid, Polymer With Butyl 2-Methyl-2-Propenoate, 1,6-Hexanediol, -Alpha-Hydro-Omega-Hydroxypoly[Oxy(Methyl-1,2-Ethanediyl)], 2-Hydroxyethyl 2-Methyl-2-Propenoate, 1,3-Isobenzofurandione, 1,1′-Methylenebis[4-Isocyanatobenzene], Methyl 2-Methyl-2-Propenoate, 2-Methyloxirane, 2-Methyl-2-Propenoic Acid, 2-Oxepanone, 2,2′-Oxybis[Ethanol] And Poly(Oxy-Alkanediyl) Glyceryl Ether.
P-13-0443 | 05/08/2013 | 08/06/2013 | H.B. Fuller Company | (G) Industrial Adhesive | (G) Polymer With Butyl 2-Methyl-2-Propenoate, Hexanedioic Acid, 1,6-Hexanediol, Alpha-Hydro-Omega-Hydroxypoly[Oxy(Methyl-1,2-Ethanediyl)], 2-Hydroxyethyl 2-Methyl-2-Propenoate, 1,1′-Methylenebis[4-Isocyanatobenzene], Methyl 2-Methyl-2-Propenoate, 2-Methyl-2-Propenoic Acid And 2-Oxepanone.
P-13-0444 | 05/08/2013 | 08/06/2013 | H.B. Fuller Company | (G) Industrial Adhesive | (G) 1,3-Benzenedicarboxylic Acid, Polymer With Butyl 2-Methyl-2-Propenoate, Alkane Acid, Hexandioic Acid, 1,6-Hexanediol, Substituted Poly[Oxy(Methyl-1,2-Ethanediyl)], 2-Hdyroxyethyl 2-Methyl-2-Propenoate, 1,1′-Methylenebis[4-Isocyanatobenzene], Methyl 2-Methyl-2-Propenoate, 2-Methyl-2-Propenoic Acid And 2-Oxepanone.
P-13-0445 | 05/08/2013 | 08/06/2013 | H.B. Fuller Company | (G) Industrial Adhesive | (G) 1,3-Benzenedicarboxylic Acid, Polymer With Butyl 2-Methyl-2-Propenoate, Alkane Acid, Hexandioic Acid, 1,6-Hexanediol, Substituted Poly[Oxy(Methyl-1,2-Ethanediyl)], 2-Hdyroxyethyl 2-Methyl-2-Propenoate, 1,1′-Methylenebis[Isocyan atobenzene], Methyl 2-Methyl-2-Propenoate, 2-Methyl-2-Propenoic Acid And 2-Oxepanone.
P-13-0446 | 05/09/2013 | 08/07/2013 | CBI | (G) An Inert Ingredient In Pesticide Formulations | (G) Poly(Oxyalkanediyl), [[Alkylimino]Dialkane diyl]Bis[Omega-Hydroxy]-.
P-13-0447 | 05/09/2013 | 08/07/2013 | CBI | (S) Polyurethane Catalyst | (G) Carboxylic Anhydride, Polymer With -Hydro-Hydroxypoly(Oxy-1,2-Ethanediyl), compound With N,N′-Bis[3-(Dimethylamino)Propyl]Urea.
P-13-0448 | 05/09/2013 | 08/07/2013 | CBI | (S) Pigment Paste Grinding Vehicle For Ultraviolet Curable Printing Inks | (G) Propoxylated Glycerol Aliphatic Diacid Acrylated Polymer, Polymer With Aliphatic Diamine.
P-13-0449 | 05/10/2013 | 08/08/2013 | CBI | (G) Acrylic Emulsion For Concrete Coatings | (G) Alkyl Methacrylate Polymer With Akyl Acrylate and Alkyl Methacrylate.
P-13-0450 | 05/10/2013 | 08/08/2013 | CBI | (G) Acrylic Emulsion For Concrete Coatings | (G) Carboxylic Methacrylate Polymer With Akyl Acrylate, Alkyl Methacrylate and Alkyl Methacrylate.
P-13-0451 | 05/10/2013 | 08/08/2013 | CBI | (G) Acrylic Emulsion For Concrete Coatings. | (G) Carboxylic Methacrylate Polymer With Akyl Acrylate, Alkyl Methacrylate and Alkyl Methacrylate.
P-13-0452 | 05/10/2013 | 08/08/2013 | Dow Chemical Company | (G) Chemical Intermediate For Polyurethane Polymer | (G) Polyalkylene Glycol, Alpha Isocyanate, Omega Silane.
P-13-0453 | 05/13/2013 | 08/11/2013 | Henkel Corporation | (G) Phenolic Resin For Coatings | (G) Phenolic Resin.
P-13-0454 | 05/13/2013 | 08/11/2013 | Henkel Corporation | (S) Epoxy Resin For Electronic Devices | (S) 4,7-Methano-1h-Indene-2,6-Dicarboxylic Acid, 3a,4,7,7a-Tetrahydro-, 2,6-Bis(2- Oxiranylmethyl) Ester.*
P-13-0455 | 05/15/2013 | 08/13/2013 | Henkel Corporation | (G) Used As a conductive adhesive in the Electronics Industry | (S) Poly(Oxy-1,2-Ethanediyl), Alpha,Alpha′-[(1-Methylethylidene)Di-4,1-Phenylene]Bis[Omega-[[6-(2,5-Dihydro-2,5-Dioxo-1h-Pyrrol-1-Yl)-1-Oxohexyl]Oxy]-.*
P-13-0456 | 05/17/2013 | 08/15/2013 | The John D. Walsh Company, Inc | (S) Fragrance Ingredient For Laundry Applications; Fragrance Ingredient For Household Applications; Fragrance Ingredient For Personal Care | (G) Cyclohexane Carboxylic Acid Ester.
P-13-0457 | 05/17/2013 | 08/15/2013 | The John D. Walsh Company, Inc | (S) Fragrance Ingredient For Laundry Applications; Fragrance Ingredient For Household Applications; Fragrance Ingredient For Personal Care | (G) Cyclopentane Carboxylic Acid Ester.
P-13-0458 | 05/17/2013 | 08/15/2013 | Al Chem & Cy Us Acquico, Inc | (G) Coating Resin | (G) Substituted Carbopolycycle, Polymer With Substituted Carbomonocycle, Alkanoic Acid Ester And Tetrasubstituted Alkane-Blocked.
P-13-0459 | 05/17/2013 | 08/15/2013 | CBI | (S) A Polymerizable Component In Novel Adhesive/Sealant Formulations | (G) Silyl Modified Polymer.
P-13-0460 | 05/17/2013 | 08/15/2013 | CBI | (G) Coating | (G) Hexamethylene Diisocyanate Homopolymer, Polyethylene Glycol Mono-Me Ether-Blocked, Reaction Products With Alkanol.
P-13-0461 | 05/17/2013 | 08/15/2013 | CBI | (S) General Industrial Coating On Metal Substrates | (S) Neononanoic Acid, Ethenyl Ester, Polymer With 1-Decene, Ethenylbenzene, 2-Hydroxyethyl 2-Methyl-2-Propenoate And Methyl 2-Methyl-2-Propenoate.*
P-13-0462 | 05/20/2013 | 08/18/2013 | Al Chem & Cy Us Acquico, Inc | (G) Coating Resin | (G) Substituted Alkanoic Acid Ester, Polymer With Substituted Alkenoate, Alkenoate, Alkyl Substituted Peroxoate-Initiated.
P-13-0463 | 05/21/2013 | 08/19/2013 | CBI | (G) Intermediate | (G) Substituted Polysiloxane.
P-13-0464 | 05/21/2013 | 08/19/2013 | CBI | (G) Intermediate | (G) Substituted Polysiloxane.
P-13-0465 | 05/21/2013 | 08/19/2013 | CBI | (G) Ultraviolet Stabilizer | (G) Substituted Benzotriazole.
P-13-0466 | 05/22/2013 | 08/20/2013 | CBI | (G) Curing Agent For Thermoset Resins | (G) Substituted Polysiloxane.

In Table II. of this unit, EPA provides the following information (to the extent that such information is not claimed as CBI) on the TMEs received by EPA during this period: The EPA case number assigned to the TME, the date the TME was received by EPA, the projected end date for EPA's review of the TME, the submitting manufacturer/importer, the potential uses identified by the manufacturer/importer in the TME, and the chemical identity.

Table II—17 TMEs Received From 4/18/13 to 5/22/13
Case No. | Received date | Projected notice end date | Manufacturer /importer | Use | Chemical
T-13-0010 | 05/06/2013 | 06/20/2013 | CBI | (G) Crude Oil Additive | (G) Alpha-Olefins, Polymers With Maleic Anhydride, Alkyl Esters.
T-13-0053 | 08/14/2013 | 09/28/2013 | CBI | (G) Component In Drilling Fluids; Component In Resin Coatings | (G) Amine Capped Fatty Acid Dimer Polyamide.
T-13-0054 | 08/07/2013 | 09/21/2013 | CBI | (G) Inhibitor For Oil Field Applications | (G) Cycloalkylamino Oleylalkyl Alkylamide Acid Salt.
T-13-0055 | 08/07/2013 | 09/21/2013 | CBI | (G) Inhibitor For Oil Field Applications | (G) Cycloalkylamino Oleylalkyl Alkylamide Acid Salt.
T-13-0056 | 08/07/2013 | 09/21/2013 | CBI | (G) Inhibitor For Oil Field Applications | (G) Cycloalkylamino Oleylalkyl Alkylamide Acid Salt.
T-13-0057 | 08/07/2013 | 09/21/2013 | CBI | (G) Inhibitor For Oil Field Applications | (G) Cycloalkylamino Oleylalkyl Alkylamide Acid Salt.
T-13-0058 | 08/07/2013 | 09/21/2013 | CBI | (G) Inhibitor For Oil Field Applications | (G) Cycloalkylamino Oleylalkyl Alkylamide Acid Salt.
T-13-0059 | 08/07/2013 | 09/21/2013 | CBI | (G) Inhibitor For Oil Field Applications | (G) Cycloalkylamino Oleylalkyl Alkylamide Acid Salt.
T-13-0060 | 08/12/2013 | 09/26/2013 | CBI | (G) Inhibitor For Oil Field Applications | (G) Cycloalkylamino Cocoalkyl Alkylamide Acid Salt.
T-13-0061 | 08/12/2013 | 09/26/2013 | CBI | (G) Inhibitor For Oil Field Applications | (G) Cycloalkylamino Cocoalkyl Alkylamide Acid Salt.
T-13-0062 | 08/12/2013 | 09/26/2013 | CBI | (G) Inhibitor For Oil Field Applications | (G) Cycloalkylamino Cocoalkyl Alkylamide Acid Salt.
T-13-0063 | 08/12/2013 | 09/26/2013 | CBI | (G) Inhibitor For Oil Field Applications | (G) Cycloalkylamino Cocoalkyl Alkylamide Acid Salt.
T-13-0064 | 08/12/2013 | 09/26/2013 | CBI | (G) Inhibitor For Oil Field Applications | (G) Cycloalkylamino Cocoalkyl Alkylamide Acid Salt.
T-13-0065 | 08/12/2013 | 09/26/2013 | CBI | (G) Inhibitor For Oil Field Applications | (G) Cycloalkylamino Cocoalkyl Alkylamide Acid Salt.
T-13-0091 | 08/22/2013 | 10/06/2013 | Shrieve Chemical Products | (G) Shale/Clay Inhibitor For Oilfield Industry Drilling And Fracturing Onshore Applications Not In OCS Waters | (G) Benzyl Quats.
T-14-0002 | 01/10/2014 | 02/24/2014 | CBI | (G) Highly Dispersive Use | (G) Modified Essential Oil.
T-14-0003 | 03/07/2014 | 04/21/2014 | CBI | (G) Foam Suppressant | (G) Substituted Acid, Electrophilic Aromatic Substitution Products.

In Table III. of this unit, EPA provides the following information (to the extent that such information is not claimed as CBI) on the NOCs received by EPA during this period: The EPA case number assigned to the NOC, the date the NOC was received by EPA, the projected end date for EPA's review of the NOC, and chemical identity.

Table III—129 NOCs Received From 4/18/13 to 5/22/13
Case No. | Received date | Commencement notice end date | Chemical
J-13-0005 | 04/20/13 | 04/19/2013 | (G) Saccharomyces Cerevisiae Modified.
J-13-0007 | 07/25/2013 | 07/24/2013 | (S) Saccharomyces Cerevisiae RN1016 Containing The Piromyces Sp. E2 Xyla Gene.
P-03-0101 | 07/31/2013 | 07/19/2013 | (G) Alphatic Ester.
P-03-0102 | 07/31/2013 | 07/19/2013 | (G) Alphatic Ester.
P-03-0852 | 07/31/2013 | 07/19/2013 | (G) Fatty Acid Dimer, Polymer.
P-03-0853 | 07/31/2013 | 07/19/2013 | (G) Fatty Acid Dimer, Polymer.
P-04-0718 | 06/04/2013 | 05/28/2013 | (S) Benzene, Methyl-, Reaction Products With Sulfur Chloride (S2cl2), Hexafluorophosphates(1-).*
P-06-0458 | 06/05/2013 | 05/22/2013 | (G) Magnesium Salt Of Fatty Acid.
P-07-0618 | 06/20/2013 | 06/05/2013 | (G) Alkyl Acid Fluoride.
P-08-0207 | 07/03/2013 | 06/04/2013 | (G) Substituted Styrene Copolymer.
P-08-0512 | 05/02/13 | 04/30/2013 | (G) Alcohol Propoxylate.
P-08-0513 | 05/07/13 | 04/30/2013 | (G) Alcohol Propoxylate Sulfate Salt.
P-08-0621 | 07/12/2013 | 06/22/2013 | (G) Acrylate Copolymer.
P-09-0196 | 07/25/2013 | 07/17/2013 | (G) Acrylic Isocyanate Intermediate.
P-09-0260 | 05/21/13 | 05/12/2013 | (S) Hexanedioic Acid, Polymer With 1,6-Diisocyanatohexane, 2,2-Dimethyl-1,3-Propanediol, 1,6-Hexanediol And Sodium 2-[(2-Aminoethyl)Amino] Ethanesulfonate (1:1), Polyethylene-Polypropylene Glycol Mono-Bu Ether-Blocked.
P-09-0323 | 05/08/13 | 04/15/2013 | (S) Manganese (2+), Bis(Octahydro-1,4,7-Trimethyl-1HH-I,4,7-Triazon In E-Kappa N I_Kappa N4, Kappa N7)Tri-Mu-Oxod I-, Sulfate (1:1).
P-09-0324 | 05/02/13 | 04/15/2013 | (S) Manganese (2+), Bis(Octahydro-1,4,7-Trimethyl-1H-1,4,7-Triazonine-Kappa N1, Kappa N4, Kappa N7)Tri-Mu-Oxodi-, Acetate (1:2).
P-09-0450 | 05/22/13 | 05/02/2013 | (G) Methyl Methacrylate Silyl Siloxy Methacrylate Terpolymer.
P-10-0308 | 07/31/2013 | 07/19/2013 | (S) Fatty Acids, C16-18 And C18-Unsatd., Mixed Esters With Adipic Acid And Trimethylolpropane.*
P-10-0363 | 07/18/2013 | 07/05/2013 | (G) Aromatic Bisphosphite.
P-10-0474 | 06/05/2013 | 05/13/2013 | (S) Fatty Acids, C18-Unsatd., Dimers Polymers With Cashew Nutshell Liq., Epichlorohydrin And Polyethylenepolyamines.*
P-10-0475 | 06/21/2013 | 05/13/2013 | (G) Pentadocyni Phenol Polyamide.
P-10-0486 | 05/07/13 | 04/30/2013 | (S) Poly[Oxy(Methyl-1,2-Ethanediyl)], Alpha-Sulfo-Omega-Hydroxy-, C12-13-Branched And Linear Alkyl Ethers, Sodium Salts.
P-10-0487 | 06/25/2013 | 05/28/2013 | (S) Poly[Oxy(Methyl-1,2-Ethanediyl)], Alpha-Sulfo-Omega-Hydroxy-,C14-15-Branched And Linear Alkyl Ethers, Sodium Salts.*
P-10-0533 | 07/03/2013 | 06/03/2013 | (G) Styrene/Acrylate Copolymer.
P-11-0161 | 07/31/2013 | 07/19/2013 | (G) Polyurethane Acrylate Resin.
P-11-0192 | 05/01/13 | 04/11/2013 | (G) Harmide Rb-207.
P-11-0204 | 07/31/2013 | 07/01/2013 | (G) Acetalde Hyde, Substituted.
P-11-0307 | 05/10/13 | 04/15/2013 | (S) Cashew Nutshell Liquid, Glycidyl Ether, Polymer With 5-Amino-1,3,3- Trimethylcyclohexanemethanamine, Bisphenol A, Diethylenetriamine, Epichlorohydrin, And Formaldehyde.
P-11-0474 | 07/03/2013 | 05/21/2013 | (S) Boron, Trifluoro (Tetrahydrofuran)-, (T-4)-, Polymer With Methyloxirane, 3-Methyl-3- [(2,2,3,3,3-Pentapropoxy)Methyl]Oxetane, Oxirane And Tetrahydrofuran.*
P-11-0480 | 05/29/2013 | 05/28/2013 | (G) Mercaptoalkoxysilane.
P-11-0485 | 06/25/2013 | 06/08/2013 | (G) Polyoxyalkylene Ether, Polymer With Aliphatic Diisocyanate, Homopolymer, Alkanol-Blocked′.
P-11-0486 | 06/25/2013 | 06/08/2013 | (G) Alkyl Substituted Alkanediol Polymer With Aliphatic And Alicyclic Diisocyanates.
P-11-0488 | 06/25/2013 | 06/08/2013 | (G) Aliphatic Diisocyanate, Homopolymer, Alkanol-Blocked.
P-11-0489 | 06/25/2013 | 06/08/2013 | (G) Aliphatic Diisocyanate Polymer With Alkanediol And Alkylglycol.
P-11-0500 | 05/29/2013 | 05/28/2013 | (G) Polysulfide Silane.
P-11-0594 | 05/21/13 | 05/16/2013 | (G) Mercaptoalkoxysilane.
P-12-0080 | 04/12/13 | 04/08/2013 | (G) Fluoroethylene-Vinylether Copolymer.
P-12-0117 | 04/03/13 | 03/21/2013 | (G) Substituted Pyridinium Salt.
P-12-0241 | 07/10/2013 | 06/21/2013 | (G) 2-Propenoic Acid, 2-Methyl-, 2-Hydroxyethyl Ester, Telomers With C18-26-Alkyl Acrylate, 1-Dodecanethiol, N-(Hydroxymethyl)-2-Methyl-2-Propenamide, Polyfluorooctyl Methacrylate, 2,2′-[1,2-Diazenediylbis(1-Methylethylidene)]-Bis[4,5-Dihydro-1h-Imidazole] Hydrochloride (1:2)-Initiated.
P-12-0243 | 05/28/2013 | 05/23/2013 | (G) Copolymer Of Vinyl/Alkyl Siloxanes And Methacrylic Acid Derivatives.
P-12-0244 | 05/28/2013 | 05/24/2013 | (G) Cycloaliphatic Anhydride Polymer With Aliphatic Polyols And Aliphatic Acid.
P-12-0256 | 04/09/13 | 04/06/2013 | (G) Dialkyldithiophosphate Salt.
P-12-0396 | 05/01/13 | 01/02/2013 | (G) Solvent-Base Polyurethane Dispersion.
P-12-0416 | 05/20/13 | 04/30/2013 | (S) Multi-Walled Carbon Nanotubes (CM-95 Grade).
P-12-0417 | 05/21/13 | 04/30/2013 | (S) Multi-Walled Carbon Nanotubes (CM-100 Grade).
P-12-0418 | 05/20/13 | 04/30/2013 | (S) Multi-Walled Carbon Nanotubes (CM-150 Grade).
P-12-0419 | 05/20/13 | 04/30/2013 | (S) Multi-Walled Carbon Nanotubes (CM-250 Grade).
P-12-0537 | 05/20/13 | 05/16/2013 | (G) Hexanedioic Acid, Polymer With -[2,2-Bis(Hydroxy,Alkyl)Butyl-W-Methoxypoly(Oxy-1,2-Ethanediyl), 2,2-Alkyl-1,3-Propanediol, 1,2-Ethanediamine, 1,6-Hexanediol, 3-Hydroxy-2-(Hydroxyalkyl)-2-Alkylpropanoic Acid And 1,1′-Methylenebis[4-Isocyanatocyclohexane], Compound with N,N-Diethylethandiamine.
P-12-0539 | 05/16/13 | 05/01/2013 | (S) CAS 1417900-96-9; Alkanes, C21-34-Branched And Linear, Chloro.
P-12-0555 | 07/26/2013 | 07/19/2013 | (G) Acrylate Terpolymer.
P-12-0576 | 05/01/13 | 04/30/2013 | (S) Infused Carbon Nanostructures With Iron, 25-140 Microns In Length.
P-12-0580 | 05/21/13 | 05/03/2013 | (G) Polyurethane Acrylate.
P-12-0581 | 07/09/2013 | 06/14/2013 | (G) Sulfurized Fatty Acid Derivative.
P-12-0583 | 06/28/2013 | 06/02/2013 | (G) Sulfonated Stilbene Derivative.
P-13-0015 | 04/24/13 | 03/30/2013 | (S) Phenol, 4,4′-(1-Methylethylidene) Bis-, Polymer With 2-(Chloromethyl)Oxirane, -Hydro-Hydroxypoly(Oxy-1,4-Butanediyl), 1,1′-Methlenebis[4-Isocyanatocyclohexane] And 2,2′-(Methylimino)Bis[Ethanol], Iso-Bu Alc.- Blocked, Phosphates (Salts).
P-13-0030 | 06/10/2013 | 05/29/2013 | (G) Carboxylic Acid, Substituted Alkylstannylene Ester, Reaction Products With Inorganic Acid Tetra Alkyl Ester.
P-13-0042 | 06/05/2013 | 05/24/2013 | (S) D-Glucopyranose, Oligomeric, C10-16-Alkyl Glycosides, 3-(Dodecyldimethylammonio)-2-Hydroxypropyl Ethers, Chlorides, Polymers With 1,3-Dichloro-2-Propanol.*
P-13-0058 | 05/22/13 | 05/02/2013 | (G) Ammonium Salt Of Propylene/Ethylene Oxide Polymer.
P-13-0061 | 05/06/13 | 04/19/2013 | (G) Aliphatic Urethane Acrylate.
P-13-0062 | 06/21/2013 | 05/24/2013 | (S) Oxirane, 2-Methyl-, Polymer With Oxirane, Ether With 1,2,3-Propanetriol (3:1), Triester With Alpha-[[[3-(Carboxyamino[Methylphenyl]Amino]Carbonyl]-Omega-[3-(Dimethoxymethylsilyl]Propoxy]Poly[Oxy(Methyl-1,2-Ethanediyl)].*
P-13-0111 | 04/25/13 | 04/22/2013 | (G) Acrylfunctional Polysiloxane, Reaction Product Of Alcohols With Isocyanates.
P-13-0112 | 05/20/13 | 05/08/2013 | (G) Acrylfunctional Polysiloxane, Reaction Product Of Alcohols With Isocyanates.
P-13-0113 | 04/25/13 | 04/22/2013 | (G) Acrylfunctional Polysiloxane, Reaction Product Of Alcohols With Isocyanates.
P-13-0115 | 04/24/13 | 04/22/2013 | (G) Fatty Acids Of Natural Oils, Maleated, Substituted Phenoxyalkyl Esters.
P-13-0116 | 04/24/13 | 04/22/2013 | (G) Fatty Acids Of Natural Oils, Conjugated, Maleated, Substituted Phenoxyalkyl Esters.
P-13-0124 | 06/17/2013 | 06/17/2013 | (G) Coating Polymer.
P-13-0127 | 06/04/2013 | 05/28/2013 | (G) Monofunctional Acrylate.
P-13-0146 | 04/24/13 | 03/27/2013 | (G) Aromatic Urethane Acrylate Composed Of Aliphatic Glycol, Alipatic Ester, Aliphatic Acid And Aromatic Isocyanate.
P-13-0150 | 05/16/13 | 04/26/2013 | (G) Aluminoxanes, Alkyl, Reaction Products With Dichloro Substituted Alkanediyl Substituted Heteropolycycle Alkyl Biphenyl Zirconium And Silica Complex.
P-13-0151 | 05/30/2013 | 05/09/2013 | (G) Vegetable Oil Based Polyol Polyester.
P-13-0156 | 07/08/2013 | 07/03/2013 | (G) Alkyl Methacrylate Polymer With Alkyl Acrylate, Amino Acrylate And Alkyl Methacrylate.
P-13-0163 | 05/08/13 | 04/24/2013 | (G) Alkyldioic Acid, Polymer With [(2-Aminoalkyl)Amino]Alkylsulfonic Acid Monosodium Salt, Alkyldiol, Alkyldiol, Cycloaliphatic Diisocyanate And Cycloaliphatic Diisocyanate, Polyalkylene Glycol Mono-Alkyl Ether-Blocked.
P-13-0169 | 07/09/2013 | 06/14/2013 | (G) Sulfurized Fatty Acid Derivative.
P-13-0171 | 05/23/13 | 05/09/2013 | (G) Silanated Urethane Polymer.
P-13-0188 | 06/28/2013 | 06/24/2013 | (S) Siloxanes And Silicones, Di-Me, 3-Hydroxypropyl Me, Ethoxylated, Ethers With Oligomeric C10-16-Alkyl D-Glycopyranosides And Oligomeric Decyl Octyl D-Glycopyranosides And Oligomeric Decyl Octyl D-Glycopryanosides.*
P-13-0215 | 04/26/13 | 04/14/2013 | (G) Hetero Substituted Alkyl Acrylate Polymer.
P-13-0216 | 05/02/13 | 04/15/2013 | Polycarboxylic Acid Polymer With Polyols.
P-13-0217 | 06/17/2013 | 05/31/2013 | (G) Antimony Tris(Dialkyldithiocarbamate).
P-13-0221 | 06/24/2013 | 06/19/2013 | (S) Copper, Chloro[Tris(2-Chloroethyl) Phosphite-P]-.*
P-13-0232 | 05/21/13 | 05/16/2013 | (G) Benzenedicarboxylic Acid, Polymer With Substituted Alkanediol, Dodecanedioic Acid, 1,2-Ethanediol, Alkanedioic Acid, Alkanediol,Alpha-Hydro-Omega-Hydroxypoly[Oxyalkanediyl], 1,3-Isobenzofurandione, Methylene Diphenyl Diisocyanate, 2-Oxepanone, 2,2′-Oxybis[Ethanol] And Polymethylene Polyphenylene Isocyanate.
P-13-0233 | 05/21/13 | 05/18/2013 | (S) Hexanedioicacid, 2,5-Dibromo-, Diethyl Ester (6CI,7CI,8CI,9CI); CAS—869-10-3.
P-13-0236 | 05/17/13 | 05/15/2013 | (G) Vegetable-Oil Fatty Acids, Conjugated, Anhydride Ester, Reaction Products With Substituted Amine, Tall-Oil Acids Anhydride Ester And Substituted Amine.
P-13-0240 | 05/09/13 | 05/01/2013 | (G) Alkyl Ketimine Alpha-Hydroxy Amine Alkyl Ketimine.
P-13-0241 | 05/17/13 | 05/15/2013 | (G) Alkyl Quanidine Hydrochloride.
P-13-0242 | 07/23/2013 | 05/13/2013 | (S) 2-Propenoic Acid, 2-Methyl-, Polymer With Cyclohexyl 2-Methyl-2-Propenoate, Methyl 2-Methyl-2-Propenoate And Phenylmethyl 2-Methyl-2-Propenoate, 2,2′-(1,2-Diazenediyl)Bis[4-Methoxy-2,4-Dimethylpentanenitrile]-Initiated.*
P-13-0243 | 05/24/2013 | 05/08/2013 | (G) Siloxanes And Silicones, Di-Alkyl, 3-Aminopropyl Group-Terminated, Polymer With 1,3-Alkanediol, Subsituted Diisocyanates.
P-13-0245 | 05/23/13 | 05/17/2013 | (G) Substituted Alkanoic Acid, Polymer With Substituted Alkylamide, Substituted Carbomonocycle, Substituted Alkanoates.
P-13-0247 | 07/25/2013 | 07/16/2013 | (G) Dicarboxylic Acid, Polymer With Dicarboxylic Acid, Substituted Carbomonocycle And Alkanediol.
P-13-0259 | 07/01/2013 | 06/26/2013 | (G) Antimony Tris(Dialkyldithiocarbamate).
P-13-0264 | 06/13/2013 | 06/12/2013 | (G) Isomers Of Aliphatic Substituted Quinoline.
P-13-0265 | 06/11/2013 | 05/13/2013 | (G) Substituted Propenoic Acid, Alkyl Ester, Polymer With Alkyl Propenoate, Carbomonocycle, Substituted Alkyl Propenoate, Substituted Alkyl Propenoate, 2-Propenoic Acid And Alkyl Carbopolycyclic Ester, Tert-Bu Peroxide-Initiated, Compounds with Triethanolamine.
P-13-0266 | 06/25/2013 | 06/07/2013 | (G) Heteromonocycle, Decasubstituted.
P-13-0268 | 05/15/13 | 05/14/2013 | (G) Rosin Ester Cycloadduct.
P-13-0271 | 07/19/2013 | 06/28/2013 | (G) Aliphatic Polyester Polyol.
P-13-0277 | 05/22/13 | 05/14/2013 | (G) Unsaturated Urethane Methacrylate.
P-13-0278 | 05/24/2013 | 05/23/2013 | (G) Reaction Of Product Of Benzene Dicarboxylic Acid, Polyether Polyol And Propylene Oxide.
P-13-0281 | 06/18/2013 | 06/17/2013 | (G) Silated Polyether Type Polyurethane Resin.
P-13-0282 | 07/02/2013 | 06/27/2013 | (G) Trifluoroethene Polymer With, 4-(Ethenyloxy)-1-Butanol, Olefin Copolymers And Amine.
P-13-0283 | 06/27/2013 | 06/13/2013 | (G) Polyakylene Glycol Methyl-2-Propenoate, Polymer With Alkyl-Substituted 2-Propenoate.
P-13-0284 | 07/02/2013 | 06/26/2013 | (G) Trifluoroethene Polymer With, 4-(Ethenyloxy)-1-Butanol, Ethene, Ethoxy- And Olefin Ethoxy Copolymer.
P-13-0291 | 07/11/2013 | 06/25/2013 | (G) Formaldehyde, Polymer With 2-(Chloromethyl)Oxirane, Cycloaliphatic Amine, 4,4′-(1-Methylethylidene)Bis[Phenol] And 2-Methylphenol.
P-13-0294 | 07/11/2013 | 07/03/2013 | Null.
P-13-0296 | 07/03/2013 | 06/25/2013 | Null.
P-13-0297 | 07/16/2013 | 07/05/2013 | (S) 9-Decen-2-One*
P-13-0298 | 06/20/2013 | 05/22/2013 | (G) Alkenoic Acid, Polymer With Alkadiene And Alkenenitrile, Substituted Alkyl-Terminated, Polymers With Substituted Carbomonocycles, Alkoxy-Terminated-Substituted Alkyl-Alkadiene Polymer, Substituted Carbomonocycle And Halogen Subsituted Carbomonocycle.
P-13-0311 | 07/05/2013 | 07/03/2013 | (G) Styrene Maleic Acid Ester Copolymer.
P-13-0313 | 07/07/2013 | 07/07/2013 | (G) 1,3-Isobenzofurandione, 5,5′-[(1-Methylethylidene)Bis(4,1-Phenyleneoxy)]Bis, Polymer With 3,3′-[1,3-Phenylenebis(Oxy)]Bis[Benzenamine], Sulfonylbis[Aminophenol] And 3,3′-(1,1,3,3-Tetramethyl-1,3-Disiloxanediyl)Bis[1-Propanamine], Reaction Products With Arylamine.
P-13-0328 | 06/20/2013 | 06/04/2013 | (S) Hexanedioic Acid, Polymer With 1,4-Butanediol, 1,6~Diisocyanatohexane, Dimethyl Carbonate, 2, 2-Dimethyl-1, 3-Propanediol, 2-Ethyl-2-(Hydroxymethyl)-1,3-Propanediol, 1, 6-Hexanediol,3-Hydroxy-2-(Hydroxymethyl)-2-Methylpropanoic Acid,1,3-Isobenzofurandione and 1,1′-Methylenebis [4-Isocyanatocyclohexane], Compound with 2- (Dimethylamino)Ethanol.*
P-13-0336 | 07/16/2013 | 07/12/2013 | (S)Acetonitrile,2-(2,4,4-Trimethylcyclopentylidene)-.*
P-13-0342 | 06/27/2013 | 06/17/2013 | (S)1,2-Ethanediamine,N,N-Bis[2-(Dimethylamino)Ethyl]-N′,N′-Dimethyl-(9ci).*

If you are interested in information that is not included in these tables, you may contact EPA as described in Unit III. to access additional non-CBI information that may be available.

List of Subjects

Environmental protection, Chemicals, Hazardous substances, Imports, Notice of commencement, Premanufacturer, Reporting and recordkeeping requirements, Test marketing exemptions.

Dated: June 2, 2014.
Chandler Sirmons,
Acting Director, Information Management Division, Office of Pollution Prevention and Toxics.

[FR Doc. 2014-13382 Filed 6-6-14; 8:45 am]

BILLING CODE 6560-50-P